DEPARTMENT OF LABOR

Employment and Training Administration

[TA-W-65,264]

Auto Truck Transport, Mount Holly, North Carolina Terminal, Mount Holly, NC; Notice of Termination of Investigation

Pursuant to Section 221 of the Trade Act of 1974, as amended, an investigation was initiated on February 17, 2009, in response to a petition filed on behalf of workers at Auto Truck Transport, Mount Holly, North Carolina Terminal, Mount Holly, North Carolina.

The petitioners have requested that the petition be withdrawn. Consequently, the investigation has been terminated.

Signed at Washington, DC this 4th day of March 2009.
Linda G. Poole,
Certifying Officer, Division of Trade Adjustment Assistance.

[FR Doc. E9-5187 Filed 3-10-09; 8:45 am]

BILLING CODE 4510-FN-P